NATIONAL TRANSPORTATION SAFETY BOARD

Public Availability of FY 2013 Service Contract Inventory Analysis, FY 2014 Service Contract Inventory, FY 2014 Service Contract Inventory Supplement, and FY 2014 Service Contract Inventory Planned Analysis for the National Transportation Safety Board

AGENCY: National Transportation Safety Board.

ACTION: Notice of Public Availability of FY 2013 Service Contract Inventory Analysis, FY 2014 Service Contract Inventory, FY 2014 Service Contract Inventory Supplement, and FY 2014 Service Contract Inventory Planned Analysis.

SUMMARY: In accordance with Section 743 of Division C of the Consolidated Appropriations Act of 2010 (Pub. L. 111-117), the National Transportation Safety Board is publishing this notice to advise the public of the availability of the FY 2013 Service Contract Inventory Analysis, the FY 2014 Service Contract Inventory, the FY 2014 Service Contract Inventory Supplement, and the FY 2014 Service Contract Inventory Planned Analysis. The FY 2013 inventory analysis provides information on specific service contract actions that were analyzed as part of the FY 2013 inventory. The FY 2014 inventory provides information on service contract actions over $25,000 that was made in FY 2014. The inventory information is organized by function to show how contracted resources are distributed throughout the agency. The inventory has been developed in accordance with guidance issued on November 5, 2010 by the Office of Management and Budget's Office of Federal Procurement Policy (OFPP). OFPP's guidance is available at http://www.whitehouse.gov/sites/default/files/omb/procurement/memo/service-contract-inventories-guidance-11052010.pdf. The FY 2014 inventory supplement provides information collected from contractors on the amount invoiced and the direct labor hours expended on covered service contracts. The FY 2014 inventory planned analysis provides information on which functional areas will be reviewed by the agency. The National Transportation Safety Board has posted its FY 2014 inventory, FY 2014 inventory supplement; FY 2014 planned analysis, and FY 2013 inventory analysis at the following link: http://www.ntsb.gov/about/employment/Pages/open.aspx.

FOR FURTHER INFORMATION CONTACT: Questions regarding the service contract inventory should be directed to Peter M. Hazlinsky, Chief, Acquisition and Lease Management Division, NTSB at 202-314-6205 or matt.hazlinsky@nts.gov.

Dated: June 11, 2015.
Candi R. Bing,
Federal Register Liaison Officer.

[FR Doc. 2015-14719 Filed 6-15-15; 8:45 am]

BILLING CODE 7533-01-P